DEPARTMENT OF HEALTH AND HUMAN SERVICES

Centers for Medicare & Medicaid Services

[CMS-1530-CN]

RIN 0938-AM46

Medicare Program; Prospective Payment System and Consolidated Billing for Skilled Nursing Facilities; Corrections

AGENCY: Centers for Medicare & Medicaid Services (CMS), HHS.

ACTION: Correction notice.

SUMMARY: This document corrects technical errors that appeared in the July 31, 2006 Federal Register, entitled “Medicare Program; Prospective Payment System and Consolidated Billing for Skilled Nursing Facilities—Update—Notice.”

Effective Date: This correction is effective October 1, 2006.

FOR FURTHER INFORMATION CONTACT: Bill Ullman, (410) 786-5667.

SUPPLEMENTARY INFORMATION:

I. Background

In FR Doc. 06-6615 of July 31, 2006 (71 FR 43158), there were several technical errors that this notice serves to identify and correct. One correction involves Table 10, which we use to illustrate the skilled nursing facility (SNF) prospective payment system (PPS) payment rate computations for a fictitious “XYZ” SNF located in Cedar Rapids, IA. In the example that appears in this table, RUG Group “CC2” serves to illustrate the effect on the payment rates of applying the 128 percent add-on for SNF residents with AIDS under section 511 of the Medicare Prescription Drug, Improvement, and Modernization Act of 2003 (MMA, P.L. 108-173). The table includes a footnote, marked with an asterisk that describes the MMA adjustment; however, we inadvertently omitted the corresponding asterisk within the table itself to identify the particular figure in the table to which this footnote refers. Accordingly, in section II of this document (“Correction of Errors”), we are restoring the asterisk that belongs next to the adjusted CC2 amount of “$542.54” that appears in Table 10's “Percent Adjustment” column.

In addition, in Table 12 (which displays the projected impact of the FY 2007 SNF PPS payment update, including the variation in impact by region and by certain other facility characteristics), we are correcting errors pertaining to the rural Outlying region. In the projected impact for the rural Outlying region, we inadvertently entered the incorrect figures of “-2.9%” and “3.3%” in the columns entitled “Transition to CBSA” and “Total FY 2007 change,” respectively. In this notice, we correct these figures to read “0.0%” and “6.4%,” respectively, and we also make corresponding revisions in the text of the narrative that accompanies Table 12. We note that the effect on the corrected table is solely distributional in nature and, accordingly, there is no change in the estimated aggregate expenditures for FY 2007 as set forth in the July 31, 2006 update notice. A further discussion of the projected impact of the FY 2007 SNF PPS payment update appears in the July 31, 2006 update notice (71 FR 43173-43176).

Finally, we have determined that in the process of developing the most recent hospital wage index, we inadvertently used incorrect wage information for two providers. These two providers notified their fiscal intermediary in a timely fashion that their wage data were incorrect and we agreed to correct the wage data for these two providers. However, we inadvertently published the uncorrected wage data in the July 31, 2006 update notice. Incorporating their corrected data into our calculation of the national average hourly wage results in revised wage index values for a number of Core-Based Statistical Areas (CBSAs). Accordingly, we are revising and republishing Tables 8 and 9, which appeared in an addendum to the July 31, 2006 update notice, to reflect the correct information.

II. Correction of Errors

In FR Doc. 06-6615 (71 FR 43158), make the following corrections:

1. On page 43170, Table 10, in the “Percent adj” column, the figure “$542.54” is revised to read “$542.54*”.

2. On page 43174, third column,

a. In the first paragraph, line 10, the figure “3.2 percent” is revised to read “6.4 percent”.

b. In the final paragraph, the second sentence is revised to read as follows: “For example, though facilities in the rural Mountain region experience only a slight payment increase of 1.2 percent, some providers (such as those in the rural Outlying region) show a greater increase of 6.4 percent. “ In the third sentence, the phrase “urban Mountain” is revised to read “rural Outlying”.

3. On page 43175, Table 12, the entries displayed for the rural Outlying region in the columns entitled “Transition to full CBSA” and “Total FY 2007 change” are revised to read “0.0%” and “6.4%”, respectively.

4. On pages 43176 through 43198, Table 8 is revised to read as follows:

Table 8.— FY 2007 Wage Index For Urban Areas Based On CBSA Labor Market Areas
CBSA code | Urban area (constituent counties) | Wage index
10180 | Abilene, TX | 0.8000
| Callahan County, TX
| Jones County, TX
| Taylor County, TX
10380 | Aguadilla-Isabela-San Sebastián, PR | 0.3915
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8654
| Portage County, OH
| Summit County, OH
10500 | Albany, GA | 0.8991
| Baker County, GA
| Dougherty County, GA
| Lee County, GA
| Terrell County, GA
| Worth County, GA
10580 | Albany-Schenectady-Troy, NY | 0.8720
| Albany County, NY
| Rensselaer County, NY
| Saratoga County, NY
| Schenectady County, NY
| Schoharie County, NY
10740 | Albuquerque, NM | 0.9458
| Bernalillo County, NM
| Sandoval County, NM
| Torrance County, NM
| Valencia County, NM
10780 | Alexandria, LA | 0.8006
| Grant Parish, LA
| Rapides Parish, LA
10900 | Allentown-Bethlehem-Easton, PA-NJ | 0.9947
| Warren County, NJ
| Carbon County, PA
| Lehigh County, PA
| Northampton County, PA
11020 | Altoona, PA | 0.8812
| Blair County, PA
11100 | Amarillo, TX | 0.9169
| Armstrong County, TX
| Carson County, TX
| Potter County, TX
| Randall County, TX
11180 | Ames, IA | 0.9760
| Story County, IA
11260 | Anchorage, AK | 1.2023
| Anchorage Municipality, AK
| Matanuska-Susitna Borough, AK
11300 | Anderson, IN | 0.8681
| Madison County, IN
11340 | Anderson, SC | 0.9017
| Anderson County, SC
11460 | Ann Arbor, MI | 1.0826
| Washtenaw County, MI
11500 | Anniston-Oxford, AL | 0.7770
| Calhoun County, AL
11540 | Appleton, WI | 0.9455
| Calumet County, WI
| Outagamie County, WI
11700 | Asheville, NC | 0.9216
| Buncombe County, NC
| Haywood County, NC
| Henderson County, NC
| Madison County, NC
12020 | Athens-Clarke County, GA | 0.9856
| Clarke County, GA
| Madison County, GA
| Oconee County, GA
| Oglethorpe County, GA
12060 | Atlanta-Sandy Springs-Marietta, GA | 0.9762
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1831
| Atlantic County, NJ
12220 | Auburn-Opelika, AL | 0.8096
| Lee County, AL
12260 | Augusta-Richmond County, GA-SC | 0.9667
| Burke County, GA
| Columbia County, GA
| McDuffie County, GA
| Richmond County, GA
| Aiken County, SC
| Edgefield County, SC
12420 | Austin-Round Rock, TX | 0.9344
| Bastrop County, TX
| Caldwell County, TX
| Hays County, TX
| Travis County, TX
| Williamson County, TX
12540 | Bakersfield, CA | 1.0725
| Kern County, CA
12580 | Baltimore-Towson, MD | 1.0088
| Anne Arundel County, MD
| Baltimore County, MD
| Carroll County, MD
| Harford County, MD
| Howard County, MD
| Queen Anne's County, MD
| Baltimore City, MD
12620 | Bangor, ME | 0.9711
| Penobscot County, ME
12700 | Barnstable Town, MA | 1.2539
| Barnstable County, MA
12940 | Baton Rouge, LA | 0.8084
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9762
| Calhoun County, MI
13020 | Bay City, MI | 0.9251
| Bay County, MI
13140 | Beaumont-Port Arthur, TX | 0.8595
| Hardin County, TX
| Jefferson County, TX
| Orange County, TX
13380 | Bellingham, WA | 1.1104
| Whatcom County, WA
13460 | Bend, OR | 1.0743
| Deschutes County, OR
13644 | Bethesda-Frederick-Gaithersburg, MD | 1.0903
| Frederick County, MD
| Montgomery County, MD
13740 | Billings, MT | 0.8712
| Carbon County, MT
| Yellowstone County, MT
13780 | Binghamton, NY | 0.8786
| Broome County, NY
| Tioga County, NY
13820 | Birmingham-Hoover, AL | 0.8894
| Bibb County, AL
| Blount County, AL
| Chilton County, AL
| Jefferson County, AL
| St. Clair County, AL
| Shelby County, AL
| Walker County, AL
13900 | Bismarck, ND | 0.7240
| Burleigh County, ND
| Morton County, ND
13980 | Blacksburg-Christiansburg-Radford, VA | 0.8213
| Giles County, VA
| Montgomery County, VA
| Pulaski County, VA
| Radford City, VA
14020 | Bloomington, IN | 0.8533
| Greene County, IN
| Monroe County, IN
| Owen County, IN
14060 | Bloomington-Normal, IL | 0.8944
| McLean County, IL
14260 | Boise City-Nampa, ID | 0.9401
| Ada County, ID
| Boise County, ID
| Canyon County, ID
| Gem County, ID
| Owyhee County, ID
14484 | Boston-Quincy, MA | 1.1679
| Norfolk County, MA
| Plymouth County, MA
| Suffolk County, MA
14500 | Boulder, CO | 1.0350
| Boulder County, CO
14540 | Bowling Green, KY | 0.8148
| Edmonson County, KY
| Warren County, KY
14740 | Bremerton-Silverdale, WA | 1.0913
| Kitsap County, WA
14860 | Bridgeport-Stamford-Norwalk, CT | 1.2659
| Fairfield County, CT
15180 | Brownsville-Harlingen, TX | 0.9430
| Cameron County, TX
15260 | Brunswick, GA | 1.0164
| Brantley County, GA
| Glynn County, GA
| McIntosh County, GA
15380 | Buffalo-Niagara Falls, NY | 0.9424
| Erie County, NY
| Niagara County, NY
15500 | Burlington, NC | 0.8674
| Alamance County, NC
15540 | Burlington-South Burlington, VT | 0.9474
| Chittenden County, VT
| Franklin County, VT
| Grand Isle County, VT
15764 | Cambridge-Newton-Framingham, MA | 1.0970
| Middlesex County, MA
15804 | Camden, NJ | 1.0392
| Burlington County, NJ
| Camden County, NJ
| Gloucester County, NJ
15940 | Canton-Massillon, OH | 0.9031
| Carroll County, OH
| Stark County, OH
15980 | Cape Coral-Fort Myers, FL | 0.9342
| Lee County, FL
16180 | Carson City, NV | 1.0025
| Carson City, NV
16220 | Casper, WY | 0.9145
| Natrona County, WY
16300 | Cedar Rapids, IA | 0.8888
| Benton County, IA
| Jones County, IA
| Linn County, IA
16580 | Champaign-Urbana, IL | 0.9644
| Champaign County, IL
| Ford County, IL
| Piatt County, IL
16620 | Charleston, WV | 0.8542
| Boone County, WV
| Clay County, WV
| Kanawha County, WV
| Lincoln County, WV
| Putnam County, WV
16700 | Charleston-North Charleston, SC | 0.9145
| Berkeley County, SC
| Charleston County, SC
| Dorchester County, SC
16740 | Charlotte-Gastonia-Concord, NC-SC | 0.9554
| Anson County, NC
| Cabarrus County, NC
| Gaston County, NC
| Mecklenburg County, NC
| Union County, NC
| York County, SC
16820 | Charlottesville, VA | 1.0125
| Albemarle County, VA
| Fluvanna County, VA
| Greene County, VA
| Nelson County, VA
| Charlottesville City, VA
16860 | Chattanooga, TN-GA | 0.8948
| Catoosa County, GA
| Dade County, GA
| Walker County, GA
| Hamilton County, TN
| Marion County, TN
| Sequatchie County, TN
16940 | Cheyenne, WY | 0.9060
| Laramie County, WY
16974 | Chicago-Naperville-Joliet, IL | 1.0751
| Cook County, IL
| DeKalb County, IL
| DuPage County, IL
| Grundy County, IL
| Kane County, IL
| Kendall County, IL
| McHenry County, IL
| Will County, IL
17020 | Chico, CA | 1.1053
| Butte County, CA
17140 | Cincinnati-Middletown, OH-KY-IN | 0.9601
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8436
| Christian County, KY
| Trigg County, KY
| Montgomery County, TN
| Stewart County, TN
17420 | Cleveland, TN | 0.8109
| Bradley County, TN
| Polk County, TN
17460 | Cleveland-Elyria-Mentor, OH | 0.9400
| Cuyahoga County, OH
| Geauga County, OH
| Lake County, OH
| Lorain County, OH
| Medina County, OH
17660 | Coeur d'Alene, ID | 0.9344
| Kootenai County, ID
17780 | College Station-Bryan, TX | 0.9045
| Brazos County, TX
| Burleson County, TX
| Robertson County, TX
17820 | Colorado Springs, CO | 0.9701
| El Paso County, CO
| Teller County, CO
17860 | Columbia, MO | 0.8542
| Boone County, MO
| Howard County, MO
17900 | Columbia, SC | 0.8933
| Calhoun County, SC
| Fairfield County, SC
| Kershaw County, SC
| Lexington County, SC
| Richland County, SC
| Saluda County, SC
17980 | Columbus, GA-AL | 0.8239
| Russell County, AL
| Chattahoochee County, GA
| Harris County, GA
| Marion County, GA
| Muscogee County, GA
18020 | Columbus, IN | 0.9318
| Bartholomew County, IN
18140 | Columbus, OH | 1.0107
| Delaware County, OH
| Fairfield County, OH
| Franklin County, OH
| Licking County, OH
| Madison County, OH
| Morrow County, OH
| Pickaway County, OH
| Union County, OH
18580 | Corpus Christi, TX | 0.8564
| Aransas County, TX
| Nueces County, TX
| San Patricio County, TX
18700 | Corvallis, OR | 1.1546
| Benton County, OR
19060 | Cumberland, MD-WV | 0.8446
| Allegany County, MD
| Mineral County, WV
19124 | Dallas-Plano-Irving, TX | 1.0075
| Collin County, TX
| Dallas County, TX
| Delta County, TX
| Denton County, TX
| Ellis County, TX
| Hunt County, TX
| Kaufman County, TX
| Rockwall County, TX
19140 | Dalton, GA | 0.9093
| Murray County, GA
| Whitfield County, GA
19180 | Danville, IL | 0.9266
| Vermilion County, IL
19260 | Danville, VA | 0.8451
| Pittsylvania County, VA
| Danville City, VA
19340 | Davenport-Moline-Rock Island, IA-IL | 0.8846
| Henry County, IL
| Mercer County, IL
| Rock Island County, IL
| Scott County, IA
19380 | Dayton, OH | 0.9037
| Greene County, OH
| Miami County, OH
| Montgomery County, OH
| Preble County, OH
19460 | Decatur, AL | 0.8159
| Lawrence County, AL
| Morgan County, AL
19500 | Decatur, IL | 0.8172
| Macon County, IL
19660 | Deltona-Daytona Beach-Ormond Beach, FL | 0.9263
| Volusia County, FL
19740 | Denver-Aurora, CO | 1.0930
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA | 0.9214
| Dallas County, IA
| Guthrie County, IA
| Madison County, IA
| Polk County, IA
| Warren County, IA
19804 | Detroit-Livonia-Dearborn, MI | 1.0281
| Wayne County, MI
20020 | Dothan, AL | 0.7381
| Geneva County, AL
| Henry County, AL
| Houston County, AL
20100 | Dover, DE | 0.9847
| Kent County, DE
20220 | Dubuque, IA | 0.9133
| Dubuque County, IA
20260 | Duluth, MN-WI | 1.0042
| Carlton County, MN
| St. Louis County, MN
| Douglas County, WI
20500 | Durham, NC | 0.9826
| Chatham County, NC
| Durham County, NC
| Orange County, NC
| Person County, NC
20740 | Eau Claire, WI | 0.9630
| Chippewa County, WI
| Eau Claire County, WI
20764 | Edison, NJ | 1.1190
| Middlesex County, NJ
| Monmouth County, NJ
| Ocean County, NJ
| Somerset County, NJ
20940 | El Centro, CA | 0.9076
| Imperial County, CA
21060 | Elizabethtown, KY | 0.8697
| Hardin County, KY
| Larue County, KY
21140 | Elkhart-Goshen, IN | 0.9426
| Elkhart County, IN
21300 | Elmira, NY | 0.8240
| Chemung County, NY
21340 | El Paso, TX | 0.9053
| El Paso County, TX
21500 | Erie, PA | 0.8827
| Erie County, PA
21604 | Essex County, MA | 1.0418
| Essex County, MA
21660 | Eugene-Springfield, OR | 1.0876
| Lane County, OR
21780 | Evansville, IN-KY | 0.9071
| Gibson County, IN
| Posey County, IN
| Vanderburgh County, IN
| Warrick County, IN
| Henderson County, KY
| Webster County, KY
21820 | Fairbanks, AK | 1.1059
| Fairbanks North Star Borough, AK
21940 | Fajardo, PR | 0.4036
| Ceiba Municipio, PR
| Fajardo Municipio, PR
| Luquillo Municipio, PR
22020 | Fargo, ND-MN | 0.8250
| Cass County, ND
| Clay County, MN
22140 | Farmington, NM | 0.8589
| San Juan County, NM
22180 | Fayetteville, NC | 0.8945
| Cumberland County, NC
| Hoke County, NC
22220 | Fayetteville-Springdale-Rogers, AR-MO | 0.8865
| Benton County, AR
| Madison County, AR
| Washington County, AR
| McDonald County, MO
22380 | Flagstaff, AZ | 1.1601
| Coconino County, AZ
22420 | Flint, MI | 1.0969
| Genesee County, MI
22500 | Florence, SC | 0.8388
| Darlington County, SC
| Florence County, SC
22520 | Florence-Muscle Shoals, AL | 0.7843
| Colbert County, AL
| Lauderdale County, AL
22540 | Fond du Lac, WI | 1.0063
| Fond du Lac County, WI
22660 | Fort Collins-Loveland, CO | 0.9544
| Larimer County, CO
22744 | Fort Lauderdale-Pompano Beach-Deerfield Beach, FL | 1.0133
| Broward County, FL
22900 | Fort Smith, AR-OK | 0.7731
| Crawford County, AR
| Franklin County, AR
| Sebastian County, AR
| Le Flore County, OK
| Sequoyah County, OK
23020 | Fort Walton Beach-Crestview-Destin, FL | 0.8643
| Okaloosa County, FL
23060 | Fort Wayne, IN | 0.9517
| Allen County, IN
| Wells County, IN
| Whitley County, IN
23104 | Fort Worth-Arlington, TX | 0.9569
| Johnson County, TX
| Parker County, TX
| Tarrant County, TX
| Wise County, TX
23420 | Fresno, CA | 1.0943
| Fresno County, CA
23460 | Gadsden, AL | 0.8066
| Etowah County, AL
23540 | Gainesville, FL | 0.9277
| Alachua County, FL
| Gilchrist County, FL
23580 | Gainesville, GA | 0.8958
| Hall County, GA
23844 | Gary, IN | 0.9334
| Jasper County, IN
| Lake County, IN
| Newton County, IN
| Porter County, IN
24020 | Glens Falls, NY | 0.8324
| Warren County, NY
| Washington County, NY
24140 | Goldsboro, NC | 0.9171
| Wayne County, NC
24220 | Grand Forks, ND-MN | 0.7949
| Polk County, MN
| Grand Forks County, ND
24300 | Grand Junction, CO | 0.9668
| Mesa County, CO
24340 | Grand Rapids-Wyoming, MI | 0.9455
| Barry County, MI
| Ionia County, MI
| Kent County, MI
| Newaygo County, MI
24500 | Great Falls, MT | 0.8598
| Cascade County, MT
24540 | Greeley, CO | 0.9602
| Weld County, CO
24580 | Green Bay, WI | 0.9787
| Brown County, WI
| Kewaunee County, WI
| Oconto County, WI
24660 | Greensboro-High Point, NC | 0.8866
| Guilford County, NC
| Randolph County, NC
| Rockingham County, NC
24780 | Greenville, NC | 0.9432
| Greene County, NC
| Pitt County, NC
24860 | Greenville, SC | 0.9804
| Greenville County, SC
| Laurens County, SC
| Pickens County, SC
25020 | Guayama, PR | 0.3235
| Arroyo Municipio, PR
| Guayama Municipio, PR
| Patillas Municipio, PR
25060 | Gulfport-Biloxi, MS | 0.8915
| Hancock County, MS
| Harrison County, MS
| Stone County, MS
25180 | Hagerstown-Martinsburg, MD-WV | 0.9038
| Washington County, MD
| Berkeley County, WV
| Morgan County, WV
25260 | Hanford-Corcoran, CA | 1.0282
| Kings County, CA
25420 | Harrisburg-Carlisle, PA | 0.9402
| Cumberland County, PA
| Dauphin County, PA
| Perry County, PA
25500 | Harrisonburg, VA | 0.9073
| Rockingham County, VA
| Harrisonburg City, VA
25540 | Hartford-West Hartford-East Hartford, CT | 1.0894
| Hartford County, CT
| Litchfield County, CT
| Middlesex County, CT
| Tolland County, CT
25620 | Hattiesburg, MS | 0.7430
| Forrest County, MS
| Lamar County, MS
| Perry County, MS
25860 | Hickory-Lenoir-Morganton, NC | 0.9010
| Alexander County, NC
| Burke County, NC
| Caldwell County, NC
| Catawba County, NC
25980 | Hinesville-Fort Stewart, GA1 | 0.9177
| Liberty County, GA
| Long County, GA
26100 | Holland-Grand Haven, MI | 0.9163
| Ottawa County, MI
26180 | Honolulu, HI | 1.1096
| Honolulu County, HI
26300 | Hot Springs, AR | 0.8782
| Garland County, AR
26380 | Houma-Bayou Cane-Thibodaux, LA | 0.8082
| Lafourche Parish, LA
| Terrebonne Parish, LA
26420 | Houston-Sugar Land-Baytown, TX | 1.0008
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.8997
| Boyd County, KY
| Greenup County, KY
| Lawrence County, OH
| Cabell County, WV
| Wayne County, WV
26620 | Huntsville, AL | 0.9007
| Limestone County, AL
| Madison County, AL
26820 | Idaho Falls, ID | 0.9088
| Bonneville County, ID
| Jefferson County, ID
26900 | Indianapolis-Carmel, IN | 0.9895
| Boone County, IN
| Brown County, IN
| Hamilton County, IN
| Hancock County, IN
| Hendricks County, IN
| Johnson County, IN
| Marion County, IN
| Morgan County, IN
| Putnam County, IN
| Shelby County, IN
26980 | Iowa City, IA | 0.9714
| Johnson County, IA
| Washington County, IA
27060 | Ithaca, NY | 0.9928
| Tompkins County, NY
27100 | Jackson, MI | 0.9560
| Jackson County, MI
27140 | Jackson, MS | 0.8271
| Copiah County, MS
| Hinds County, MS
| Madison County, MS
| Rankin County, MS
| Simpson County, MS
27180 | Jackson, TN | 0.8853
| Chester County, TN
| Madison County, TN
27260 | Jacksonville, FL | 0.9165
| Baker County, FL
| Clay County, FL
| Duval County, FL
| Nassau County, FL
| St. Johns County, FL
27340 | Jacksonville, NC | 0.8231
| Onslow County, NC
27500 | Janesville, WI | 0.9655
| Rock County, WI
27620 | Jefferson City, MO | 0.8332
| Callaway County, MO
| Cole County, MO
| Moniteau County, MO
| Osage County, MO
27740 | Johnson City, TN | 0.8043
| Carter County, TN
| Unicoi County, TN
| Washington County, TN
27780 | Johnstown, PA | 0.8620
| Cambria County, PA
27860 | Jonesboro, AR | 0.7662
| Craighead County, AR
| Poinsett County, AR
27900 | Joplin, MO | 0.8605
| Jasper County, MO
| Newton County, MO
28020 | Kalamazoo-Portage, MI | 1.0704
| Kalamazoo County, MI
| Van Buren County, MI
28100 | Kankakee-Bradley, IL | 1.0083
| Kankakee County, IL
28140 | Kansas City, MO-KS | 0.9495
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0343
| Benton County, WA
| Franklin County, WA
28660 | Killeen-Temple-Fort Hood, TX | 0.8901
| Bell County, TX
| Coryell County, TX
| Lampasas County, TX
28700 | Kingsport-Bristol-Bristol, TN-VA | 0.7985
| Hawkins County, TN
| Sullivan County, TN
| Bristol City, VA
| Scott County, VA
| Washington County, VA
28740 | Kingston, NY | 0.9367
| Ulster County, NY
28940 | Knoxville, TN | 0.8249
| Anderson County, TN
| Blount County, TN
| Knox County, TN
| Loudon County, TN
| Union County, TN
29020 | Kokomo, IN | 0.9669
| Howard County, IN
| Tipton County, IN
29100 | La Crosse, WI-MN | 0.9426
| Houston County, MN
| La Crosse County, WI
29140 | Lafayette, IN | 0.8931
| Benton County, IN
| Carroll County, IN
| Tippecanoe County, IN
29180 | Lafayette, LA | 0.8289
| Lafayette Parish, LA
| St. Martin Parish, LA
29340 | Lake Charles, LA | 0.7914
| Calcasieu Parish, LA
| Cameron Parish, LA
29404 | Lake County-Kenosha County, IL-WI | 1.0570
| Lake County, IL
| Kenosha County, WI
29460 | Lakeland, FL | 0.8879
| Polk County, FL
29540 | Lancaster, PA | 0.9589
| Lancaster County, PA
29620 | Lansing-East Lansing, MI | 1.0088
| Clinton County, MI
| Eaton County, MI
| Ingham County, MI
29700 | Laredo, TX | 0.7811
| Webb County, TX
29740 | Las Cruces, NM | 0.9273
| Dona Ana County, NM
29820 | Las Vegas-Paradise, NV | 1.1430
| Clark County, NV
29940 | Lawrence, KS | 0.8365
| Douglas County, KS
30020 | Lawton, OK | 0.8065
| Comanche County, OK
30140 | Lebanon, PA | 0.8679
| Lebanon County, PA
30300 | Lewiston, ID-WA | 0.9853
| Nez Perce County, ID
| Asotin County, WA
30340 | Lewiston-Auburn, ME | 0.9126
| Androscoggin County, ME
30460 | Lexington-Fayette, KY | 0.9181
| Bourbon County, KY
| Clark County, KY
| Fayette County, KY
| Jessamine County, KY
| Scott County, KY
| Woodford County, KY
30620 | Lima, OH | 0.9042
| Allen County, OH
30700 | Lincoln, NE | 1.0092
| Lancaster County, NE
| Seward County, NE
30780 | Little Rock-North Little Rock, AR | 0.8890
| Faulkner County, AR
| Grant County, AR
| Lonoke County, AR
| Perry County, AR
| Pulaski County, AR
| Saline County, AR
30860 | Logan, UT-ID | 0.9022
| Franklin County, ID
| Cache County, UT
30980 | Longview, TX | 0.8788
| Gregg County, TX
| Rusk County, TX
| Upshur County, TX
31020 | Longview, WA | 1.0011
| Cowlitz County, WA
31084 | Los Angeles-Long Beach-Glendale, CA | 1.1760
| Los Angeles County, CA
31140 | Louisville, KY-IN | 0.9118
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8613
| Crosby County, TX
| Lubbock County, TX
31340 | Lynchburg, VA | 0.8694
| Amherst County, VA
| Appomattox County, VA
| Bedford County, VA
| Campbell County, VA
| Bedford City, VA
| Lynchburg City, VA
31420 | Macon, GA | 0.9519
| Bibb County, GA
| Crawford County, GA
| Jones County, GA
| Monroe County, GA
| Twiggs County, GA
31460 | Madera, CA | 0.8154
| Madera County, CA
31540 | Madison, WI | 1.0840
| Columbia County, WI
| Dane County, WI
| Iowa County, WI
31700 | Manchester-Nashua, NH | 1.0243
| Hillsborough County, NH
| Merrimack County, NH
31900 | Mansfield, OH1 | 0.9271
| Richland County, OH
32420 | Mayaguéz, PR | 0.3848
| Hormigueros Municipio, PR
| Mayagüez Municipio, PR
32580 | McAllen-Edinburg-Pharr, TX | 0.8773
| Hidalgo County, TX
32780 | Medford, OR | 1.0818
| Jackson County, OR
32820 | Memphis, TN-MS-AR | 0.9373
| Crittenden County, AR
| DeSoto County, MS
| Marshall County, MS
| Tate County, MS
| Tunica County, MS
| Fayette County, TN
| Shelby County, TN
| Tipton County, TN
32900 | Merced, CA | 1.1471
| Merced County, CA
33124 | Miami-Miami Beach-Kendall, FL | 0.9812
| Miami-Dade County, FL
33140 | Michigan City-La Porte, IN | 0.9118
| LaPorte County, IN
33260 | Midland, TX | 0.9786
| Midland County, TX
33340 | Milwaukee-Waukesha-West Allis, WI | 1.0218
| Milwaukee County, WI
| Ozaukee County, WI
| Washington County, WI
| Waukesha County, WI
33460 | Minneapolis-St. Paul-Bloomington, MN-WI | 1.0946
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.8928
| Missoula County, MT
33660 | Mobile, AL | 0.7913
| Mobile County, AL
33700 | Modesto, CA | 1.1729
| Stanislaus County, CA
33740 | Monroe, LA | 0.7997
| Ouachita Parish, LA
| Union Parish, LA
33780 | Monroe, MI | 0.9707
| Monroe County, MI
33860 | Montgomery, AL | 0.8009
| Autauga County, AL
| Elmore County, AL
| Lowndes County, AL
| Montgomery County, AL
34060 | Morgantown, WV | 0.8423
| Monongalia County, WV
| Preston County, WV
34100 | Morristown, TN | 0.7933
| Grainger County, TN
| Hamblen County, TN
| Jefferson County, TN
34580 | Mount Vernon-Anacortes, WA | 1.0517
| Skagit County, WA
34620 | Muncie, IN | 0.8562
| Delaware County, IN
34740 | Muskegon-Norton Shores, MI | 0.9941
| Muskegon County, MI
34820 | Myrtle Beach-Conway-North Myrtle Beach, SC | 0.8810
| Horry County, SC
34900 | Napa, CA | 1.3374
| Napa County, CA
34940 | Naples-Marco Island, FL | 0.9941
| Collier County, FL
34980 | Nashville-Davidson—Murfreesboro, TN | 0.9847
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2662
| Nassau County, NY
| Suffolk County, NY
35084 | Newark-Union, NJ-PA | 1.1892
| Essex County, NJ
| Hunterdon County, NJ
| Morris County, NJ
| Sussex County, NJ
| Union County, NJ
| Pike County, PA
35300 | New Haven-Milford, CT | 1.1953
| New Haven County, CT
35380 | New Orleans-Metairie-Kenner, LA | 0.8831
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3177
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8915
| Berrien County, MI
35980 | Norwich-New London, CT | 1.1932
| New London County, CT
36084 | Oakland-Fremont-Hayward, CA | 1.5819
| Alameda County, CA
| Contra Costa County, CA
36100 | Ocala, FL | 0.8867
| Marion County, FL
36140 | Ocean City, NJ | 1.0472
| Cape May County, NJ
36220 | Odessa, TX | 1.0073
| Ector County, TX
36260 | Ogden-Clearfield, UT | 0.8995
| Davis County, UT
| Morgan County, UT
| Weber County, UT
36420 | Oklahoma City, OK | 0.8843
| Canadian County, OK
| Cleveland County, OK
| Grady County, OK
| Lincoln County, OK
| Logan County, OK
| McClain County, OK
| Oklahoma County, OK
36500 | Olympia, WA | 1.1081
| Thurston County, WA
36540 | Omaha-Council Bluffs, NE-IA | 0.9450
| Harrison County, IA
| Mills County, IA
| Pottawattamie County, IA
| Cass County, NE
| Douglas County, NE
| Sarpy County, NE
| Saunders County, NE
| Washington County, NE
36740 | Orlando, FL | 0.9452
| Lake County, FL
| Orange County, FL
| Osceola County, FL
| Seminole County, FL
36780 | Oshkosh-Neenah, WI | 0.9315
| Winnebago County, WI
36980 | Owensboro, KY | 0.8748
| Daviess County, KY
| Hancock County, KY
| McLean County, KY
37100 | Oxnard-Thousand Oaks-Ventura, CA | 1.1546
| Ventura County, CA
37340 | Palm Bay-Melbourne-Titusville, FL | 0.9443
| Brevard County, FL
37460 | Panama City-Lynn Haven, FL | 0.8027
| Bay County, FL
37620 | Parkersburg-Marietta, WV-OH | 0.7977
| Washington County, OH
| Pleasants County, WV
| Wirt County, WV
| Wood County, WV
37700 | Pascagoula, MS | 0.8215
| George County, MS
| Jackson County, MS
37860 | Pensacola-Ferry Pass-Brent, FL | 0.8000
| Escambia County, FL
| Santa Rosa County, FL
37900 | Peoria, IL | 0.8982
| Marshall County, IL
| Peoria County, IL
| Stark County, IL
| Tazewell County, IL
| Woodford County, IL
37964 | Philadelphia, PA | 1.0996
| Bucks County, PA
| Chester County, PA
| Delaware County, PA
| Montgomery County, PA
| Philadelphia County, PA
38060 | Phoenix-Mesa-Scottsdale, AZ | 1.0287
| Maricopa County, AZ
| Pinal County, AZ
38220 | Pine Bluff, AR | 0.8383
| Cleveland County, AR
| Jefferson County, AR
| Lincoln County, AR
38300 | Pittsburgh, PA | 0.8674
| Allegheny County, PA
| Armstrong County, PA
| Beaver County, PA
| Butler County, PA
| Fayette County, PA
| Washington County, PA
| Westmoreland County, PA
38340 | Pittsfield, MA | 1.0266
| Berkshire County, MA
38540 | Pocatello, ID | 0.9400
| Bannock County, ID
| Power County, ID
38660 | Ponce, PR | 0.4842
| Juana Díaz Municipio, PR
| Ponce Municipio, PR
| Villalba Municipio, PR
38860 | Portland-South Portland-Biddeford, ME | 0.9908
| Cumberland County, ME
| Sagadahoc County, ME
| York County, ME
38900 | Portland-Vancouver-Beaverton, OR-WA | 1.1416
| Clackamas County, OR
| Columbia County, OR
| Multnomah County, OR
| Washington County, OR
| Yamhill County, OR
| Clark County, WA
| Skamania County, WA
38940 | Port St. Lucie-Fort Pierce, FL | 0.9833
| Martin County, FL
| St. Lucie County, FL
39100 | Poughkeepsie-Newburgh-Middletown, NY | 1.0911
| Dutchess County, NY
| Orange County, NY
39140 | Prescott, AZ | 0.9836
| Yavapai County, AZ
39300 | Providence-New Bedford-Fall River, RI-MA | 1.0783
| Bristol County, MA
| Bristol County, RI
| Kent County, RI
| Newport County, RI
| Providence County, RI
| Washington County, RI
39340 | Provo-Orem, UT | 0.9537
| Juab County, UT
| Utah County, UT
39380 | Pueblo, CO | 0.8753
| Pueblo County, CO
39460 | Punta Gorda, FL | 0.9405
| Charlotte County, FL
39540 | Racine, WI | 0.9356
| Racine County, WI
39580 | Raleigh-Cary, NC | 0.9864
| Franklin County, NC
| Johnston County, NC
| Wake County, NC
39660 | Rapid City, SD | 0.8833
| Meade County, SD
| Pennington County, SD
39740 | Reading, PA | 0.9622
| Berks County, PA
39820 | Redding, CA | 1.3198
| Shasta County, CA
39900 | Reno-Sparks, NV | 1.1963
| Storey County, NV
| Washoe County, NV
40060 | Richmond, VA | 0.9177
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.0904
| Riverside County, CA
| San Bernardino County, CA
40220 | Roanoke, VA | 0.8647
| Botetourt County, VA
| Craig County, VA
| Franklin County, VA
| Roanoke County, VA
| Roanoke City, VA
| Salem City, VA
40340 | Rochester, MN | 1.1408
| Dodge County, MN
| Olmsted County, MN
| Wabasha County, MN
40380 | Rochester, NY | 0.8994
| Livingston County, NY
| Monroe County, NY
| Ontario County, NY
| Orleans County, NY
| Wayne County, NY
40420 | Rockford, IL | 0.9989
| Boone County, IL
| Winnebago County, IL
40484 | Rockingham County-Strafford County, NH | 1.0159
| Rockingham County, NH
| Strafford County, NH
40580 | Rocky Mount, NC | 0.8854
| Edgecombe County, NC
| Nash County, NC
40660 | Rome, GA | 0.9193
| Floyd County, GA
40900 | Sacramento—Arden-Arcade—Roseville, CA | 1.3372
| El Dorado County, CA
| Placer County, CA
| Sacramento County, CA
| Yolo County, CA
40980 | Saginaw-Saginaw Township North, MI | 0.8874
| Saginaw County, MI
41060 | St. Cloud, MN | 1.0362
| Benton County, MN
| Stearns County, MN
41100 | St. George, UT | 0.9265
| Washington County, UT
41140 | St. Joseph, MO-KS | 1.0118
| Doniphan County, KS
| Andrew County, MO
| Buchanan County, MO
| DeKalb County, MO
41180 | St. Louis, MO-IL | 0.9005
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0438
| Marion County, OR
| Polk County, OR
41500 | Salinas, CA | 1.4337
| Monterey County, CA
41540 | Salisbury, MD | 0.8953
| Somerset County, MD
| Wicomico County, MD
41620 | Salt Lake City, UT | 0.9402
| Salt Lake County, UT
| Summit County, UT
| Tooele County, UT
41660 | San Angelo, TX | 0.8362
| Irion County, TX
| Tom Green County, TX
41700 | San Antonio, TX | 0.8844
| Atascosa County, TX
| Bandera County, TX
| Bexar County, TX
| Comal County, TX
| Guadalupe County, TX
| Kendall County, TX
| Medina County, TX
| Wilson County, TX
41740 | San Diego-Carlsbad-San Marcos, CA | 1.1354
| San Diego County, CA
41780 | Sandusky, OH | 0.9302
| Erie County, OH
41884 | San Francisco-San Mateo-Redwood City, CA | 1.5165
| Marin County, CA
| San Francisco County, CA
| San Mateo County, CA
41900 | San Germán-Cabo Rojo, PR | 0.4885
| Cabo Rojo Municipio, PR
| Lajas Municipio, PR
| Sabana Grande Municipio, PR
| San Germán Municipio, PR
41940 | San Jose-Sunnyvale-Santa Clara, CA | 1.5543
| San Benito County, CA
| Santa Clara County, CA
41980 | San Juan-Caguas-Guaynabo, PR | 0.4452
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1598
| San Luis Obispo County, CA
42044 | Santa Ana-Anaheim-Irvine, CA | 1.1473
| Orange County, CA
42060 | Santa Barbara-Santa Maria-Goleta, CA | 1.1091
| Santa Barbara County, CA
42100 | Santa Cruz-Watsonville, CA | 1.5457
| Santa Cruz County, CA
42140 | Santa Fe, NM | 1.0824
| Santa Fe County, NM
42220 | Santa Rosa-Petaluma, CA | 1.4464
| Sonoma County, CA
42260 | Sarasota-Bradenton-Venice, FL | 0.9868
| Manatee County, FL
| Sarasota County, FL
42340 | Savannah, GA | 0.9351
| Bryan County, GA
| Chatham County, GA
| Effingham County, GA
42540 | Scranton—Wilkes-Barre, PA | 0.8347
| Lackawanna County, PA
| Luzerne County, PA
| Wyoming County, PA
42644 | Seattle-Bellevue-Everett, WA | 1.1434
| King County, WA
| Snohomish County, WA
42680 | Sebastian-Vero Beach, FL | 0.9573
| Indian River County, FL
43100 | Sheboygan, WI | 0.9026
| Sheboygan County, WI
43300 | Sherman-Denison, TX | 0.8502
| Grayson County, TX
43340 | Shreveport-Bossier City, LA | 0.8865
| Bossier Parish, LA
| Caddo Parish, LA
| De Soto Parish, LA
43580 | Sioux City, IA-NE-SD | 0.9200
| Woodbury County, IA
| Dakota County, NE
| Dixon County, NE
| Union County, SD
43620 | Sioux Falls, SD | 0.9559
| Lincoln County, SD
| McCook County, SD
| Minnehaha County, SD
| Turner County, SD
43780 | South Bend-Mishawaka, IN-MI | 0.9842
| St. Joseph County, IN
| Cass County, MI
43900 | Spartanburg, SC | 0.9174
| Spartanburg County, SC
44060 | Spokane, WA | 1.0447
| Spokane County, WA
44100 | Springfield, IL | 0.8890
| Menard County, IL
| Sangamon County, IL
44140 | Springfield, MA | 1.0079
| Franklin County, MA
| Hampden County, MA
| Hampshire County, MA
44180 | Springfield, MO | 0.8469
| Christian County, MO
| Dallas County, MO
| Greene County, MO
| Polk County, MO
| Webster County, MO
44220 | Springfield, OH | 0.8593
| Clark County, OH
44300 | State College, PA | 0.8784
| Centre County, PA
44700 | Stockton, CA | 1.1442
| San Joaquin County, CA
44940 | Sumter, SC | 0.8083
| Sumter County, SC
45060 | Syracuse, NY | 0.9691
| Madison County, NY
| Onondaga County, NY
| Oswego County, NY
45104 | Tacoma, WA | 1.0789
| Pierce County, WA
45220 | Tallahassee, FL | 0.8942
| Gadsden County, FL
| Jefferson County, FL
| Leon County, FL
| Wakulla County, FL
45300 | Tampa-St. Petersburg-Clearwater, FL | 0.9144
| Hernando County, FL
| Hillsborough County, FL
| Pasco County, FL
| Pinellas County, FL
45460 | Terre Haute, IN | 0.8765
| Clay County, IN
| Sullivan County, IN
| Vermillion County, IN
| Vigo County, IN
45500 | Texarkana, TX-Texarkana, AR | 0.8104
| Miller County, AR
| Bowie County, TX
45780 | Toledo, OH | 0.9586
| Fulton County, OH
| Lucas County, OH
| Ottawa County, OH
| Wood County, OH
45820 | Topeka, KS | 0.8730
| Jackson County, KS
| Jefferson County, KS
| Osage County, KS
| Shawnee County, KS
| Wabaunsee County, KS
45940 | Trenton-Ewing, NJ | 1.0835
| Mercer County, NJ
46060 | Tucson, AZ | 0.9202
| Pima County, AZ
46140 | Tulsa, OK | 0.8103
| Creek County, OK
| Okmulgee County, OK
| Osage County, OK
| Pawnee County, OK
| Rogers County, OK
| Tulsa County, OK
| Wagoner County, OK
46220 | Tuscaloosa, AL | 0.8542
| Greene County, AL
| Hale County, AL
| Tuscaloosa County, AL
46340 | Tyler, TX | 0.8811
| Smith County, TX
46540 | Utica-Rome, NY | 0.8396
| Herkimer County, NY
| Oneida County, NY
46660 | Valdosta, GA | 0.8369
| Brooks County, GA
| Echols County, GA
| Lanier County, GA
| Lowndes County, GA
46700 | Vallejo-Fairfield, CA | 1.5137
| Solano County, CA
47020 | Victoria, TX | 0.8560
| Calhoun County, TX
| Goliad County, TX
| Victoria County, TX
47220 | Vineland-Millville-Bridgeton, NJ | 0.9832
| Cumberland County, NJ
47260 | Virginia Beach-Norfolk-Newport News, VA-NC | 0.8790
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 0.9968
| Tulare County, CA
47380 | Waco, TX | 0.8633
| McLennan County, TX
47580 | Warner Robins, GA | 0.8380
| Houston County, GA
47644 | Warren-Troy-Farmington Hills, MI | 1.0054
| Lapeer County, MI
| Livingston County, MI
| Macomb County, MI
| Oakland County, MI
| St. Clair County, MI
47894 | Washington-Arlington-Alexandria, DC-VA-MD-WV | 1.1054
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8408
| Black Hawk County, IA
| Bremer County, IA
| Grundy County, IA
48140 | Wausau, WI | 0.9722
| Marathon County, WI
48260 | Weirton-Steubenville, WV-OH | 0.8063
| Jefferson County, OH
| Brooke County, WV
| Hancock County, WV
48300 | Wenatchee, WA | 1.0346
| Chelan County, WA
| Douglas County, WA
48424 | West Palm Beach-Boca Raton-Boynton Beach, FL | 0.9649
| Palm Beach County, FL
48540 | Wheeling, WV-OH | 0.7010
| Belmont County, OH
| Marshall County, WV
| Ohio County, WV
48620 | Wichita, KS | 0.9063
| Butler County, KS
| Harvey County, KS
| Sedgwick County, KS
| Sumner County, KS
48660 | Wichita Falls, TX | 0.8311
| Archer County, TX
| Clay County, TX
| Wichita County, TX
48700 | Williamsport, PA | 0.8139
| Lycoming County, PA
48864 | Wilmington, DE-MD-NJ | 1.0684
| New Castle County, DE
| Cecil County, MD
| Salem County, NJ
48900 | Wilmington, NC | 0.9835
| Brunswick County, NC
| New Hanover County, NC
| Pender County, NC
49020 | Winchester, VA-WV | 1.0091
| Frederick County, VA
| Winchester City, VA
| Hampshire County, WV
49180 | Winston-Salem, NC | 0.9276
| Davie County, NC
| Forsyth County, NC
| Stokes County, NC
| Yadkin County, NC
49340 | Worcester, MA | 1.0722
| Worcester County, MA
49420 | Yakima, WA | 0.9847
| Yakima County, WA
49500 | Yauco, PR | 0.3854
| Guánica Municipio, PR
| Guayanilla Municipio, PR
| Peñuelas Municipio, PR
| Yauco Municipio, PR
49620 | York-Hanover, PA | 0.9397
| York County, PA
49660 | Youngstown-Warren-Boardman, OH-PA | 0.8802
| Mahoning County, OH
| Trumbull County, OH
| Mercer County, PA
49700 | Yuba City, CA | 1.0730
| Sutter County, CA
| Yuba County, CA
49740 | Yuma, AZ | 0.9109
| Yuma County, AZ
¹ At this time, there are no hospitals located in this urban area on which to base a wage index.

Table 9.—FY 2007 Wage Index Based on CBSA Labor Market Areas for Rural Areas
CBSA code | Nonurban area | Wage index
1 | Alabama | 0.7591
2 | Alaska | 1.0661
3 | Arizona | 0.8908
4 | Arkansas | 0.7307
5 | California | 1.1454
6 | Colorado | 0.9325
7 | Connecticut | 1.1709
8 | Delaware | 0.9705
10 | Florida | 0.8594
11 | Georgia | 0.7593
12 | Hawaii | 1.0448
13 | Idaho | 0.8120
14 | Illinois | 0.8320
15 | Indiana | 0.8538
16 | Iowa | 0.8681
17 | Kansas | 0.7998
18 | Kentucky | 0.7768
19 | Louisiana | 0.7438
20 | Maine | 0.8443
21 | Maryland | 0.8926
22 | Massachusetts ¹ | 1.0216
23 | Michigan | 0.9062
24 | Minnesota | 0.9153
25 | Mississippi | 0.7738
26 | Missouri | 0.7927
27 | Montana | 0.8590
28 | Nebraska | 0.8677
29 | Nevada | 0.8944
30 | New Hampshire | 1.0853
31 | New Jersey ¹ |
32 | New Mexico | 0.8332
33 | New York | 0.8232
34 | North Carolina | 0.8588
35 | North Dakota | 0.7215
36 | Ohio | 0.8658
37 | Oklahoma | 0.7629
38 | Oregon | 0.9753
39 | Pennsylvania | 0.8320
40 | Puerto Rico ¹ | 0.4047
41 | Rhode Island ¹ |
42 | South Carolina | 0.8566
43 | South Dakota | 0.8480
44 | Tennessee | 0.7827
45 | Texas | 0.7965
46 | Utah | 0.8140
47 | Vermont | 0.9744
48 | Virgin Islands | 0.8467
49 | Virginia | 0.7940
50 | Washington | 1.0263
51 | West Virginia | 0.7607
52 | Wisconsin | 0.9553
53 | Wyoming | 0.9295
65 | Guam | 0.9611
¹ All counties within the State are classified as urban, with the exception of Massachusetts and Puerto Rico. Massachusetts and Puerto Rico have areas designated as rural; however, no short-term, acute care hospitals are located in the area(s) for FY 2007. Because more recent data are not available for those areas, we are using last year's wage index value.

III. Waiver of Proposed Rulemaking and Delayed Effective Date

We ordinarily publish a notice of proposed rulemaking in the Federal Register to provide a period for public comment before the provisions of a notice such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary or contrary to the public interest, and incorporates a statement of the finding and the reasons therefore in the notice.

We find for good cause that it is unnecessary to undertake notice and comment rulemaking because this notice merely provides technical corrections to the 2007 SNF PPS update notice. We are not making substantive changes to our payment methodologies or policies, but rather, are simply implementing correctly the payment methodologies and policies that we previously proposed, received comment on, and subsequently finalized. The public has already had the opportunity to comment on these payment methodologies and policies, and this correction notice is intended solely to ensure that the FY 2007 SNF PPS update notice accurately reflects them. Therefore, we believe that undertaking further notice and comment procedures to incorporate these corrections into the update notice is unnecessary and contrary to the public interest.

Further, we believe a delayed effective date is unnecessary because this correction notice merely corrects inadvertent technical errors. The changes noted above do not make any substantive changes to the SNF PPS payment methodologies or policies. Moreover, we regard imposing a delay in the effective date as being contrary to the public interest. We believe that it is in the public interest for providers to receive appropriate SNF PPS payments in as timely a manner as possible and to ensure that the FY 2007 SNF PPS update notice accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program)

Dated: September 22, 2006.
Ann C. Agnew,
Executive Secretary to the Department.

[FR Doc. E6-15979 Filed 9-28-06; 8:45 am]

BILLING CODE 4120-01-P